DEPARTMENT OF HOUSING AND URBAN DEVELOPMENT

[Docket No. FR-4837-D-41]

Order of Succession for the Office of Administration

AGENCY: Office of the Assistant Secretary for Administration/Chief Information Officer, HUD.

ACTION: Notice of order of succession.

SUMMARY: In this notice, the Assistant Secretary for Administration/Chief Information Officer designates the Order of Succession for the Office of Administration. This Order of Succession supersedes the Order of Succession for the Assistant Secretary for Administration, published on August 22, 2000.

EFFECTIVE DATE: June 13, 2003.

FOR FURTHER INFORMATION CONTACT: Nancy Brennan, Director, Management Operations Division, Office of Administration, Department of Housing and Urban Development, Room 2182, 451 Seventh Street, SW., Washington, DC 20410-3000, telephone (202) 708-1583. (This is not a toll-free number.) This number may be accessed through TTY by calling the toll-free Federal Information Relay Service number at 1-800-877-8339.

SUPPLEMENTARY INFORMATION: The Assistant Secretary for Administration/Chief Information Officer is issuing this Order of Succession of officials authorized to perform the duties and functions of the Office of the Assistant Secretary for Administration/Chief Information Officer, when by reason of absence, disability, or vacancy in the office, the Assistant Secretary for Administration/Chief Information Officer is not available to exercise the powers or perform the duties of the Office. This Order of Succession is subject to the provisions of the Vacancy Reform Act of 1998 (5 U.S.C. 3345-3349d). This publication supersedes the Order of Succession notice on August 22, 2000 (65 FR 51014).

Accordingly, the Assistant Secretary for Administration/Chief Information Officer designates the following Order of Succession:

Section A. Order of Succession

Subject to the provisions of the Vacancy Reform Act of 1998, during any period when, by reason of absence, disability, or vacancy in office, the Assistant Secretary for Administration/Chief Information Officer is not available to exercise the powers or perform the duties of the Office of the Assistant Secretary for Administration/Chief Information Officer, the following officials within the Office of Administration are hereby designated to exercise the powers and perform the duties of the Office:

(1) General Deputy Assistant Secretary for Administration;

(2) Deputy Assistant Secretary for Operations;

(3) Deputy Assistant Secretary for Human Resource Management;

(4) Chief Procurement Officer;

(5) Chief Technology Officer;

(6) Director, Administrative Service Center 2;

(7) Director, Administrative Service Center 1;

(8) Director, Administrative Service Center 3

The officials shall perform the functions and duties of this Office in the order specified herein, and no official shall serve unless all the other officials, whose position titles precede his or hers in this order, are unable to act by reason of absence, disability, or vacancy in office.

Section B. Authority Superseded

This Order of Succession supersedes the Order of Succession for the Assistant Secretary for Administration, published on August 22, 2000 (65 FR 51014).

Authority: Sec. 7(d), Department of Housing and Urban Development Act (42 U.S.C. 3535(d)).

Dated: June 13, 2003.
Vickers B. Meadows,
Assistant Secretary for Administration, Chief Information Officer.

[FR Doc. 03-15705 Filed 6-20-03; 8:45 am]

BILLING CODE 4210-01-P